DEPARTMENT OF TRANSPORTATION

National Highway Traffic Safety Administration

49 CFR Part 541

[Docket No. NHTSA-2002-11443; Notice 02]

RIN 2127-AI73

Final Theft Data; Motor Vehicle Theft Prevention Standard

AGENCY: National Highway Traffic Safety Administration (NHTSA), Department of Transportation.

ACTION: Publication of final theft data.

SUMMARY: This document publishes the final data on thefts of model year (MY) 2000 passenger motor vehicles that occurred in calendar year (CY) 2000. The final 2000 theft data indicate that the vehicle theft rate for CY/MY 2000 vehicles (2.89 thefts per thousand vehicles) did not change from the theft rate for CY/MY 1999 (2.89 thefts per thousand vehicles) when compared to the theft rate experienced in CY/MY 1999. Publication of these data fulfills NHTSA's statutory obligation to periodically obtain accurate and timely theft data and publish the information for review and comment.

FOR FURTHER INFORMATION CONTACT: Ms. Deborah Mazyck, Office of Planning and Consumer Programs, NHTSA, 400 Seventh Street, SW., Washington, DC 20590. Ms. Mazyck's telephone number is (202) 366-0846. Her fax number is (202) 493-2290.

SUPPLEMENTARY INFORMATION: NHTSA administers a program for reducing motor vehicle theft. The central feature of this program is the Federal Motor Vehicle Theft Prevention Standard, 49 CFR part 541. The standard specifies performance requirements for inscribing and affixing vehicle identification numbers (VINs) onto certain major original equipment and replacement parts of high-theft lines of passenger motor vehicles.

The agency is required by 49 U.S.C. 33104(b)(4) to periodically obtain, from the most reliable source, accurate and timely theft data and publish the data for review and comment. To fulfill this statutory mandate, NHTSA has published theft data annually beginning with MYs 1983/84. Continuing to fulfill the “33104(b)(4) mandate, this document reports the final theft data for CY 2000, the most recent calendar year for which data are available.

In calculating the 2000 theft rates, NHTSA followed the same procedures it used in calculating the MY 1999 theft rates. (For 1999 theft data calculations, see 66 FR 39554, July 31, 2001.) As in all previous reports, NHTSA's data were based on information provided to NHTSA by the National Crime Information Center (NCIC) of the Federal Bureau of Investigation. The NCIC is a government system that receives vehicle theft information from nearly 23,000 criminal justice agencies and other law enforcement authorities throughout the United States. The NCIC data also include reported thefts of self-insured and uninsured vehicles, not all of which are reported to other data sources.

The 2000 theft rate for each vehicle line was calculated by dividing the number of reported thefts of MY 2000 vehicles of that line stolen during calendar year 2000 by the total number of vehicles in that line manufactured for MY 2000, as reported to the Environmental Protection Agency (EPA).

The final 2000 theft data show no change in the vehicle theft rate when compared to the theft rate experienced in CY/MY 1999. The final theft rate for MY 2000 passenger vehicles stolen in calendar year 2000 of 2.89 thefts per thousand vehicles produced, did not change from the rate of 2.89 thefts per thousand vehicles experienced by MY 1999 vehicles in CY 1999. For MY 2000 vehicles, out of a total of 206 vehicle lines, 51 lines had a theft rate higher than 3.5826 per thousand vehicles, the established median theft rate for MYs 1990/1991. (See 59 FR 12400, March 16, 1994.) Of the 51 vehicle lines with a theft rate higher than 3.5826, 43 are passenger car lines, eight are multipurpose passenger vehicle lines, and none are light-duty truck lines.

On Tuesday, March 12, 2002, NHTSA published the preliminary theft rates for CY 2000 passenger motor vehicles in the Federal Register (67 FR 11161). The agency tentatively ranked each of the MY 2000 vehicle lines in descending order of theft rate. The public was requested to comment on the accuracy of the data and to provide final production figures for individual vehicle lines. The agency did not receive any written comments from the public. As a result, the final theft rates and rankings of vehicle lines did not change from those published in the March 2002 notice.

Further reanalysis of the theft rate data revealed that the number of vehicle lines reported with a theft rate higher than 3.5826 was incorrect. Preliminary theft data for CY 2000 inadvertently reported that there were 45 passenger car lines with theft rates higher than 3.5826. However, NHTSA is correcting the final theft data to report 43 passenger car lines with a theft rate higher than 3.5826 and eight multipurpose passenger car lines with a theft rate higher than 3.5826.

The following list represents NHTSA's final calculation of theft rates for all 2000 passenger motor vehicle lines. This list is intended to inform the public of calendar year 2000 motor vehicle thefts of model year 2000 vehicles and does not have any effect on the obligations of regulated parties under 49 U.S.C. Chapter 331, Theft Prevention.

Theft Rates of Model Year 2000 Passenger Motor Vehicles Stolen in Calendar Year 2000
Manufacturer | Make/model (line) | Thefts 2000 | Production (Mfr's) 2000 | 2000 theft rate (per 1,000 vehicles produced)
1 DAIMLERCHRYSLER | PLYMOUTH BREEZE | 173 | 15,723 | 11.0030
2 MITSUBISHI | MONTERO SPORT/NATIVA ¹ | 509 | 46,272 | 11.0002
3 MITSUBISHI | MONTERO | 22 | 2,147 | 10.2469
4 BMW | X5 | 12 | 1,312 | 9.1463
5 DAIMLERCHRYSLER | CHRYSLER INTREPID ² | 4 | 449 | 8.9087
6 DAIMLERCHRYSLER | DODGE STRATUS | 1,040 | 118,845 | 8.7509
7 DAIMLERCHRYSLER | DODGE INTREPID | 1,400 | 162,279 | 8.6271
8 MITSUBISHI | MIRAGE | 502 | 61,957 | 8.1024
9 DAIMLERCHRYSLER | PLYMOUTH NEON | 626 | 89,142 | 7.0225
10 DAIMLERCHRYSLER | DODGE NEON | 1,191 | 170,098 | 7.0018
11 GENERAL MOTORS | CHEVROLET METRO | 210 | 30,521 | 6.8805
12 DAIMLERCHRYSLER | JEEP CHEROKEE | 1,040 | 153,816 | 6.7613
13 HONDA | ACURA NSX | 2 | 305 | 6.5574
14 DAIMLERCHRYSLER | CHRYSLER LHS | 139 | 22,944 | 6.0582
15 ASTON MARTIN | VANTAGE COUPE | 1 | 175 | 5.7143
16 DAIMLERCHRYSLER | CHRYSLER CIRRUS | 267 | 46,849 | 5.6992
17 FORD MOTOR CO | FORD CONTOUR | 350 | 61,603 | 5.6815
18 DAIMLERCHRYSLER | CHRYSLER SEBRING CONVERTIBLE | 287 | 50,940 | 5.6341
19 GENERAL MOTORS | OLDSMOBILE BRAVADA | 186 | 33,179 | 5.6060
20 MITSUBISHI | GALANT | 520 | 94,773 | 5.4868
21 HONDA | CIVIC | 1,807 | 339,223 | 5.3269
22 GENERAL MOTORS | PONTIAC GRAND AM | 1,194 | 225,321 | 5.2991
23 GENERAL MOTORS | OLDSMOBILE ALERO | 586 | 118,421 | 4.9484
24 DAEWOO | LEGANZA | 128 | 25,960 | 4.9307
25 HONDA | ACURA INTEGRA | 136 | 28,095 | 4.8407
26 DAEWOO | LANOS | 116 | 24,049 | 4.8235
27 KIA MOTORS | SEPHIA/SPECTRA | 487 | 101,027 | 4.8205
28 GENERAL MOTORS | OLDSMOBILE INTRIGUE | 352 | 73,399 | 4.7957
29 FORD MOTOR CO | MERCURY MYSTIQUE | 98 | 20,839 | 4.7027
30 DAIMLERCHRYSLER | CHRYSLER CONCORDE | 268 | 59,453 | 4.5078
31 TOYOTA | COROLLA | 839 | 187,996 | 4.4629
32 SUZUKI | VITARA/GRAND VITARA | 197 | 46,188 | 4.2652
33 AUDI | S4 | 23 | 5,396 | 4.2624
34 GENERAL MOTORS | CADILLAC DEVILLE/LIMOUSINE | 380 | 92,619 | 4.1028
35 FORD MOTOR CO | FORD MUSTANG | 832 | 202,972 | 4.0991
36 KIA MOTORS | SPORTAGE | 271 | 66,519 | 4.0740
37 HYUNDAI | ACCENT | 232 | 57,111 | 4.0623
38 MITSUBISHI | ECLIPSE | 185 | 45,850 | 4.0349
39 GENERAL MOTORS | CHEVROLET CAMARO | 177 | 43,990 | 4.0236
40 GENERAL MOTORS | PONTIAC SUNFIRE | 366 | 91,198 | 4.0132
41 SUZUKI | ESTEEM | 78 | 19,520 | 3.9959
42 ISUZU | TROOPER | 75 | 19,100 | 3.9267
43 GENERAL MOTORS | CHEVROLET CAVALIER | 975 | 256,972 | 3.7942
44 GENERAL MOTORS | CHEVROLET MALIBU | 817 | 215,601 | 3.7894
45 TOYOTA | LEXUS GS | 102 | 26,952 | 3.7845
46 GENERAL MOTORS | CHEVROLET LUMINA/MONTE CARLO | 368 | 98,556 | 3.7339
47 GENERAL MOTORS | PONTIAC FIREBIRD/TRANS AM/FORMULA | 115 | 31,093 | 3.6986
48 HYUNDAI | SONATA | 182 | 49,340 | 3.6887
49 FORD MOTOR CO | FORD FOCUS | 1,112 | 304,049 | 3.6573
50 AUDI | A6 | 94 | 26,000 | 3.6154
51 GENERAL MOTORS | BUICK REGAL | 224 | 62,502 | 3.5839
52 JAGUAR | S-TYPE | 117 | 32,818 | 3.5651
53 NISSAN | MAXIMA | 604 | 175,111 | 3.4492
54 FORD MOTOR CO | LINCOLN TOWN CAR | 296 | 89,164 | 3.3197
55 NISSAN | ALTIMA | 484 | 147,978 | 3.2708
56 VOLVO | C70 | 17 | 5,293 | 3.2118
57 GENERAL MOTORS | CHEVROLET BLAZER S10/T10 | 800 | 249,486 | 3.2066
58 SUZUKI | SWIFT | 9 | 2,860 | 3.1469
59 DAIMLERCHRYSLER | CHRYSLER NEON ² | 4 | 1,303 | 3.0698
60 NISSAN | PATHFINDER | 88 | 28,983 | 3.0363
61 GENERAL MOTORS | CHEVROLET PRIZM | 116 | 38,920 | 2.9805
62 AUDI | TT | 21 | 7,215 | 2.9106
63 MERCEDES BENZ | 220 (S-CLASS) | 118 | 40,612 | 2.9055
64 HYUNDAI | ELANTRA | 354 | 122,625 | 2.8869
65 ISUZU | RODEO | 155 | 54,169 | 2.8614
66 GENERAL MOTORS | GMC JIMMY S-15 | 251 | 87,839 | 2.8575
67 HONDA | PRELUDE | 29 | 10,165 | 2.8529
68 GENERAL MOTORS | CADILLAC SEVILLE | 89 | 31,414 | 2.8331
69 MAZDA | MILLENIA | 49 | 17,334 | 2.8268
70 DAEWOO | NUBIRA | 67 | 23,985 | 2.7934
71 GENERAL MOTORS | PONTIAC GRAND PRIX | 431 | 156,496 | 2.7541
72 FORD MOTOR CO | FORD TAURUS | 945 | 350,145 | 2.6989
73 FORD MOTOR CO | MERCURY MOUNTAINEER | 134 | 50,023 | 2.6788
74 DAIMLERCHRYSLER | DODGE AVENGER | 17 | 6,376 | 2.6662
75 MERCEDES BENZ | 208 (CLK-CLASS) | 47 | 17,796 | 2.6410
76 FORD MOTOR CO | FORD EXPLORER | 1,001 | 383,386 | 2.6109
77 GENERAL MOTORS | CHEVROLET IMPALA | 519 | 199,319 | 2.6039
78 GENERAL MOTORS | CHEVROLET CORVETTE | 81 | 31,189 | 2.5971
79 DAIMLERCHRYSLER | CHRYSLER 300 M | 138 | 53,353 | 2.5865
80 FORD MOTOR CO | MERCURY SABLE | 239 | 93,301 | 2.5616
81 TOYOTA | CELICA | 154 | 60,368 | 2.5510
82 MAZDA | 626 | 192 | 76,444 | 2.5116
83 ISUZU | VEHICROSS | 2 | 808 | 2.4752
84 NISSAN | INFINITI Q45 | 10 | 4,045 | 2.4722
85 DAIMLERCHRYSLER | JEEP GRAND CHEROKEE | 741 | 299,988 | 2.4701
86 BMW | Z3 | 24 | 9,857 | 2.4348
87 TOYOTA | CAMRY/CAMRY SOLARA | 1,097 | 451,343 | 2.4305
88 FORD MOTOR CO | LINCOLN LS | 164 | 68,527 | 2.3932
89 JAGUAR | XK8/XK8 CONVERTIBLE | 11 | 4,698 | 2.3414
90 TOYOTA | RAV4 | 103 | 44,645 | 2.3071
91 TOYOTA | 4-RUNNER | 302 | 132,248 | 2.2836
92 DAIMLERCHRYSLER | DODGE CARAVAN/GRAND | 727 | 333,712 | 2.1785
93 FORD MOTOR CO | FORD RANGER PICKUP TRUCK | 747 | 346,291 | 2.1571
94 FORD MOTOR CO | FORD F-150 PICKUP TRUCK | 318 | 151,791 | 2.0950
95 GENERAL MOTORS | CHEVROLET S-10 PICKUP TRUCK | 514 | 246,662 | 2.0838
96 DAIMLERCHRYSLER | PLYMOUTH VOYAGER/GRAND | 258 | 123,906 | 2.0822
97 FORD MOTOR CO | FORD ESCORT | 200 | 96,287 | 2.0771
98 MAZDA | PROTEGE | 166 | 80,346 | 2.0661
99 GENERAL MOTORS | SATURN SC | 33 | 16,009 | 2.0613
100 BMW | 7 | 35 | 17,141 | 2.0419
101 TOYOTA | ECHO | 114 | 56,699 | 2.0106
102 HYUNDAI | TIBURON | 32 | 15,958 | 2.0053
103 MITSUBISHI | DIAMANTE | 17 | 8,629 | 1.9701
104 GENERAL MOTORS | SATURN SL | 255 | 130,551 | 1.9533
105 FORD MOTOR CO | MERCURY COUGAR | 87 | 44,911 | 1.9372
106 DAIMLERCHRYSLER | CHRYSLER SEBRING COUPE | 21 | 10,910 | 1.9248
107 DAIMLERCHRYSLER | JEEP WRANGLER | 178 | 92,672 | 1.9208
108 GENERAL MOTORS | BUICK CENTURY | 272 | 144,495 | 1.8824
109 NISSAN | XTERRA | 200 | 108,434 | 1.8444
110 GENERAL MOTORS | GMC SAFARI VAN | 54 | 30,093 | 1.7944
111 DAIMLERCHRYSLER | DODGE DAKOTA PICKUP TRUCK | 322 | 181,011 | 1.7789
112 VOLVO | S40/V40 | 63 | 35,817 | 1.7589
113 NISSAN | SENTRA | 120 | 68,587 | 1.7496
114 BMW | 5 | 80 | 45,769 | 1.7479
115 BMW | 3 | 155 | 89,026 | 1.7411
116 FORD MOTOR CO | LINCOLN CONTINENTAL | 42 | 24,210 | 1.7348
117 GENERAL MOTORS | CHEVROLET ASTRO VAN | 155 | 89,660 | 1.7288
118 GENERAL MOTORS | CHEVROLET TRACKER | 77 | 45,063 | 1.7087
119 HONDA | PASSPORT | 35 | 20,493 | 1.7079
120 VOLVO | S70/V70 | 69 | 40,581 | 1.7003
121 NISSAN | INFINITI G20 | 23 | 13,635 | 1.6868
122 MAZDA | B SERIES PICKUP TRUCK | 53 | 31,627 | 1.6758
123 MERCEDES BENZ | 203 (C-CLASS) | 44 | 26,439 | 1.6642
124 VOLVO | XC | 24 | 14,489 | 1.6564
125 TOYOTA | TACOMA PICKUP TRUCK | 236 | 142,518 | 1.6559
126 VOLKSWAGEN | JETTA | 224 | 137,940 | 1.6239
127 GENERAL MOTORS | CADILLAC ELDORADO | 22 | 13,845 | 1.5890
128 GENERAL MOTORS | PONTIAC BONNEVILLE | 94 | 59,334 | 1.5843
129 ISUZU | HOMBRE PICKUP TRUCK | 7 | 4,449 | 1.5734
130 JAGUAR | XJR | 2 | 1,290 | 1.5504
131 NISSAN | FRONTIER PICKUP TRUCK | 217 | 143,358 | 1.5137
132 MERCEDES BENZ | 215 (CL-CLASS) | 2 | 1,338 | 1.4948
133 FORD MOTOR CO | MERCURY GRAND MARQUIS | 200 | 135,282 | 1.4784
134 HONDA | ACCORD | 627 | 430,595 | 1.4561
135 PORSCHE | 911 | 11 | 7,578 | 1.4516
136 GENERAL MOTORS | GMC SONOMA PICKUP TRUCK | 86 | 60,124 | 1.4304
137 JAGUAR | XJ8 | 10 | 7,086 | 1.4112
138 VOLKSWAGEN | GOLF/GTI | 37 | 26,862 | 1.3774
139 AUDI | A8 | 3 | 2,189 | 1.3705
140 MERCEDES BENZ | 210 (E-CLASS) | 64 | 46,709 | 1.3702
141 TOYOTA | LEXUS LS | 15 | 11,179 | 1.3418
142 DAIMLERCHRYSLER | DODGE VIPER | 2 | 1,559 | 1.2829
143 GENERAL MOTORS | SATURN LS | 105 | 82,956 | 1.2657
144 TOYOTA | LEXUS RX | 113 | 89,410 | 1.2638
145 GENERAL MOTORS | BUICK LESABRE | 240 | 190,269 | 1.2614
146 FORD MOTOR CO | FORD WINDSTAR VAN | 291 | 232,403 | 1.2521
147 AUDI | A4 | 24 | 19,304 | 1.2433
148 VOLVO | S80 | 44 | 35,864 | 1.2269
149 SUBARU | IMPREZA | 21 | 17,353 | 1.2102
150 GENERAL MOTORS | PONTIAC MONTANA VAN | 75 | 62,640 | 1.1973
151 MERCEDES BENZ | 170 (SLK-CLASS) | 7 | 5,891 | 1.1883
152 TOYOTA | LEXUS ES | 54 | 45,885 | 1.1769
153 DAIMLERCHRYSLER | PLYMOUTH PROWLER | 3 | 2,576 | 1.1646
154 GENERAL MOTORS | BUICK PARK AVENUE | 59 | 51,365 | 1.1486
155 VOLKSWAGEN | CABRIO | 10 | 8,836 | 1.1317
156 NISSAN | INFINITI I30 | 45 | 39,815 | 1.1302
157 JAGUAR | VANDEN PLAS | 4 | 3,596 | 1.1123
158 NISSAN | QUEST | 52 | 46,834 | 1.1103
159 HONDA | ACURA TL | 74 | 67,287 | 1.0998
160 GENERAL MOTORS | CADILLAC CATERA | 17 | 15,629 | 1.0877
161 GENERAL MOTORS | CHEVROLET VENTURE VAN | 107 | 100,041 | 1.0696
162 HONDA | CR-V | 121 | 114,387 | 1.0578
163 TOYOTA | TUNDRA PICKUP TRUCK | 11 | 10,527 | 1.0449
164 HONDA | ACURA RL | 17 | 16,470 | 1.0322
165 MERCEDES BENZ | 129 (SL-CLASS) | 5 | 4,845 | 1.0320
166 SUBARU | FORESTER | 29 | 28,950 | 1.0017
167 DAIMLERCHRYSLER | CHRYSLER TOWN & COUNTRY | 93 | 96,298 | 0.9658
168 ISUZU | AMIGO | 3 | 3,199 | 0.9378
169 MAZDA | MPV | 47 | 50,565 | 0.9295
170 FORD MOTOR CO | MERCURY VILLAGER MPV | 29 | 31,495 | 0.9208
171 GENERAL MOTORS | CADILLAC FUNERAL COACH | 1 | 1,100 | 0.9091
172 TOYOTA | AVALON | 98 | 108,025 | 0.9072
173 VOLKSWAGEN | NEW BEETLE | 81 | 89,819 | 0.9018
174 NISSAN | INFINITI QX4 | 25 | 28,258 | 0.8847
175 VOLKSWAGEN | PASSAT | 59 | 67,216 | 0.8778
176 GENERAL MOTORS | OLDSMOBILE SILHOUETTE VAN | 34 | 41,705 | 0.8152
177 SAAB | 9-3 | 14 | 17,929 | 0.7809
178 GENERAL MOTORS | SATURN LW | 11 | 14,418 | 0.7629
179 SAAB | 9-5 | 13 | 17,162 | 0.7575
180 TOYOTA | SIENNA VAN | 96 | 131,405 | 0.7306
181 TOYOTA | MR2 | 4 | 5,597 | 0.7147
182 SUBARU | LEGACY | 65 | 97,215 | 0.6686
183 JAGUAR | XKR | 1 | 1,508 | 0.6631
184 GENERAL MOTORS | SATURN SW | 6 | 9,113 | 0.6584
185 PORSCHE | BOXSTER/BOXSTER S | 8 | 13,563 | 0.5898
186 HONDA | S2000 | 5 | 9,206 | 0.5431
187 MAZDA | MX-5 MIATA | 8 | 16,107 | 0.4967
188 FORD MOTOR CO | FORD CROWN VICTORIA | 50 | 103,784 | 0.4818
189 HONDA | INSIGHT | 2 | 5,603 | 0.3570
190 HONDA | ODYSSEY | 33 | 122,131 | 0.2702
191 ASTON MARTIN | VANTAGE VOLANTE | 0 | 573 | 0.0000
192 BMW | Z8 | 0 | 2,936 | 0.0000
193 DAIMLERCHRYSLER | CHRYSLER STRATUS ² | 0 | 131 | 0.0000
194 FIAT | FERRARI 360 | 0 | 452 | 0.0000
195 FIAT | FERRARI 456 | 0 | 82 | 0.0000
196 FIAT | FERRARI 550 | 0 | 256 | 0.0000
197 LOTUS | ESPRIT | 0 | 200 | 0.0000
198 ROLLS-ROYCE | BENTLEY ARNAGE | 0 | 422 | 0.0000
199 ROLLS-ROYCE | BENTLEY AZURE | 0 | 93 | 0.0000
200 ROLLS-ROYCE | BENTLEY CONTINENTAL R | 0 | 23 | 0.0000
201 ROLLS-ROYCE | BENTLEY CONTINENTAL SC | 0 | 3 | 0.0000
202 ROLLS-ROYCE | BENTLEY CONTINENTAL T | 0 | 2 | 0.0000
203 ROLLS-ROYCE | BENTLEY CORNICHE | 0 | 97 | 0.0000
204 ROLLS-ROYCE | SILVER SERAPH | 0 | 154 | 0.0000
205 TOYOTA | LEXUS SC | 0 | 823 | 0.0000
206 VOLKSWAGEN | EUROVAN | 0 | 2,791 | 0.0000
¹ Nativa is the name applied to Montero Sport vehicles that are manufactured for sale only in Puerto Rico.
² These vehicles were manufactured for sale in the U.S. territories under the Chrysler nameplate.

Issued on: August 14, 2002.
Roger A. Saul,
Acting Associate Administrator for Safety Performance Standards.

[FR Doc. 02-21027 Filed 8-16-02; 8:45 am]

BILLING CODE 4910-59-P